ENVIRONMENTAL PROTECTION AGENCY

[FRL-8736-3; Docket ID No. EPA-HQ-ORD-2008-00461]

Draft Toxicological Review of Tetrachloroethylene (Perchloroethylene): In Support of the Summary Information in the Integrated Risk Information System (IRIS); Correction

AGENCY: Environmental Protection Agency (EPA).

ACTION: Notice of Peer-Review Meeting; correction.

SUMMARY: EPA announced on October 16, 2008 (73 FR 61416), that the National Academy of Sciences (NAS) will convene an independent panel of experts and organize and conduct a review of the draft document titled, “Toxicological Review of Tetrachloroethylene (Perchloroethylene): In Support of Summary Information on the Integrated Risk Information System (IRIS)” (EPA/635/R-08/011A). The document contained an incorrect meeting location.

Correction

In the Federal Register of October 16, 2008, in FR Doc. E8-24595, on page 61417, in the first column, correct the ADDRESSES section to read:

The peer-review panel meeting will be held at The National Academy of Sciences, 2100 C Street, NW., Room 150, Washington, DC 20418. For details about registering for and attending the meeting, please see the NAS's Web site at http://www8.nationalacademies.org/cp/projectview.aspx?key=48697.

FOR FURTHER INFORMATION CONTACT: Questions regarding information, registration, access or services for individuals with disabilities, or logistics for the external peer-review panel meeting should be directed to NAS. For further information, please see the NAS's Web site http://www8.nationalacademies.org/cp/projectview.aspx?key=48697. For technical information about the document, please contact the Information Management Team, National Center for Environmental Assessment, U.S. EPA; telephone: 703-347-8561; facsimile: 703-347-8691; e-mail nceadc.comment@epa.gov.

Dated: October 23, 2008.
Rebecca Clark,
Acting Director, National Center for Environmental Assessment.

[FR Doc. E8-25805 Filed 10-28-08; 8:45 am]

BILLING CODE 6560-50-P